LEGAL SERVICES CORPORATION

Sunshine Act Meeting: Board of Directors and its Six Committees

AGENCY: Legal Services Corporation.

ACTION: Change notice.

SUMMARY: On April 17, 2017, the Legal Services Corporation (LSC) published a notice in the Federal Register titled “Board of Directors and its Six Committees will meet on April 23-25, 2017, Eastern Daylight Time (EDT)”. A correction to change the Institutional Advancement Committee's Open Session Agenda by adding an additional item to the agenda item #5 Consider and act on Resolution 2017-XXX, Minnesota Charitable Organization Annual Report Form; all other items remain consecutively the same.

DATES: This change is effective April 17, 2017.

FOR FURTHER INFORMATION CONTACT: Katherine Ward, Executive Assistant to the Vice President for Legal Affairs and General Counsel, Legal Services Corporation, 3333 K Street NW., Washington, DC 20007; (202) 295-1500; kward@lsc.gov.

SUPPLEMENTARY INFORMATION: This document changes the notice by revising the Institutional Advancement Committee's Open Session Agenda by adding an additional item to the agenda.

Changes in the Meeting: Adding an additional Item to the Institutional Advancement Committee's Open Session Agenda.

—Item #5 of the Agenda: Consider and act on Resolution 2017-XXX, Minnesota Charitable Organization Annual Report Form

Dated: April 18, 2017.
Katherine Ward,
Executive Assistant to the Vice President for Legal Affairs and General Counsel.

[FR Doc. 2017-08074 Filed 4-18-17; 4:15 pm]

BILLING CODE 7050-01-P